DEPARTMENT OF TRANSPORTATION

Surface Transportation Board

[Docket No. FD 35702]

Landisville Railroad, LLC—Operation Exemption—Buckeye East Chicago Railroad LLC

Landisville Railroad, LLC (Landisville), a Class III rail carrier, has filed a verified notice of exemption under 49 CFR 1150.41 to operate approximately 7,065 feet (1.34 miles) of track,¹ existing railroad right-of-way, and bulk liquid transloading facilities owned by Buckeye East Chicago Railroad, LLC, a Class III rail carrier, in East Chicago, Ind.²

¹ Applicant states that the track does not have designated mileposts.

² See Buckeye E. Chicago R.R.—Acquis. & Operation Exemption—Buckeye Partners, L.P., FD 35698 (STB served Nov. 30, 2012).

The transaction may be consummated on or after January 6, 2012 (30 days after the notice of exemption was filed).³

³ The notice was initially filed on November 30, 2012, but it did not meet the Board's regulatory requirements. Landisville filed supplements on December 3 and 7, 2012, containing the necessary information. Because the notice was not complete until the December 7 filing, that date will be considered the actual filing date.

Landisville certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than December 28, 2012 (at least seven days before the exemption becomes effective).

An original and 10 copies of all pleadings, referring to Docket No. FD 35702, must be filed with the Surface Transportation Board, 395 E Street SW., Washington, DC 20423-0001. In addition, a copy of each pleading must be served on David C. Dillon, 111 West Washington Street, Suite 1023, Chicago, IL 60602.

Board decisions and notices are available on our Web site at “www.stb.dot.gov”.

Decided: December 17, 2012.
By the Board, Rachel D. Campbell, Director, Office of Proceedings.
Jeffrey Herzig,
Clearance Clerk.

[FR Doc. 2012-30816 Filed 12-20-12; 8:45 am]

BILLING CODE 4915-01-P